DEPARTMENT OF ENERGY

Federal Energy Regulatory Commission

[Docket No. IC26-18-000]

Commission Information Collection Activities (Ferc-549B); Comment Request

AGENCY: Federal Energy Regulatory Commission.

ACTION: Notice of information collection and request for comments.

SUMMARY: In compliance with the requirements of the Paperwork Reduction Act of 1995, 44 U.S.C. 3506(c)(2)(A), the Federal Energy Regulatory Commission (Commission or FERC) is soliciting public comments on the previously approved information collection, FERC-549B (Gas Pipeline Rates: Annual Capacity Reports and Index of Customers).

DATES: Comments on the collections of information are due April 13, 2026.

ADDRESSES: Please submit comments via email to DataClearance@FERC.gov. You must specify the Docket No. (IC26-18-000) and the FERC Information Collection number (FERC-549B) in your email. If you are unable to file electronically, comments may be filed by USPS mail or by hand (including courier) delivery:

• Mail via U.S. Postal Service only, addressed to: Federal Energy Regulatory Commission, Secretary of the Commission, 888 First Street NE, Washington, DC 20426.

• Hand (including courier) delivery to: Federal Energy Regulatory Commission, 12225 Wilkins Avenue, Rockville, MD 20852.

Docket: To view comments and issuances in this docket, please visit https://elibrary.ferc.gov/eLibrary/search.

FOR FURTHER INFORMATION CONTACT: Kayla Williams may be reached by email at DataClearance@FERC.gov, or by telephone at (202)502-6468.

SUPPLEMENTARY INFORMATION:

Title: FERC-549B (Gas Pipeline Rates: Annual Capacity Reports and Index of Customers)

OMB Control No.: 1902-0169

Type of Request: Reinstatement of the FERC-549B information collection requirements with no changes to the reporting requirements.

Abstract: As described below, FERC-549B is comprised of information collection activities at 18 CFR 284.13(b)-(c) and 18 CFR 284.13(d)(1)-(d)(2). The purpose of these information collection activities is to provide reliable information about capacity availability and price that shippers need to make informed decisions in a competitive market, and to enable shippers and the Commission to monitor marketplace behavior to detect, and remedy anti-competitive behavior. The regulations at 18 CFR 284.13(b) and 18 CFR 284.13(d)(1) require each interstate pipeline to post information about firm and interruptible service on its internet website, and in downloadable file formats. The information required at 18 CFR 284.13(b) includes identification of the shippers receiving service, and details about contracts for firm service, capacity release transactions,¹ and agreements for interruptible service. The pipeline must maintain access to that information for a period not less than 90 days from the date of posting. The regulation at 18 CFR 284.13(d)(1) requires equal and timely access to information relevant to the availability of all transportation services whenever capacity is scheduled. In addition, each interstate pipeline must provide information about the volumes of no-notice transportation ² provided. This information collection activity enables shippers to release transportation and storage capacity to other shippers wanting to obtain capacity. The information results in reliable capacity information availability and price data that shippers need to make informed decisions in a competitive market and enable shippers and the Commission to monitor the market for potential abuses. The regulation at 18 CFR 284.13(c) requires each interstate pipeline to file with the Commission an index of all its firm transportation and storage customers under contract on the first business day of each calendar quarter. The index of customers also must be posted on the pipeline's own internet website, in downloadable file formats, and must be made available until the next quarterly index is posted. The requirements for the electronic index can be obtained at https://www.ferc.gov/industries-data/natural-gas/industry-forms/form-549b-index-customers. The regulation at 18 CFR 284.13(d)(2) requires an annual peak-day capacity report of all interstate pipelines, including natural gas storage-only companies. This report is generally a short report showing the peak day design capacity or the actual peak day capacity achieved, with a short explanation, if needed. The regulation provides that an interstate pipeline must make an annual filing by March 1 of each year showing the estimated peak day capacity of the pipeline's system, and the estimated storage capacity and maximum daily delivery capability of storage facilities under reasonably representative operating assumptions and the respective assignments of that capacity to the various firm services provided by the pipeline.

¹ As provided at 18 CFR 284.8, an interstate pipeline that offers transportation service on a firm basis must include in its tariff a mechanism for firm shippers to release firm capacity to the pipeline for resale.

² No-notice transportation allows for the reservation of pipeline capacity on demand without incurring any penalties.

Types of Respondents: Respondents for this data collection are interstate pipelines and storage facilities subject to FERC regulation under the Natural Gas Act.

Estimate of Annual Burden: ³ The Commission estimates the annual public reporting burden and cost for FERC-549B as shown in the following table: FERC-549B (Gas Pipeline Rates: Annual Capacity Reports and Index of Customers)

³ The Commission defines burden as the total time, effort, or financial resources expended by persons to generate, maintain, retain, or disclose or provide information to or for a Federal agency. For further explanation of what is included in the information collection burden, reference 5 Code of Federal Regulations 1320.3.

FERC-549B
[Gas pipeline rates: annual capacity reports and index of customers]
| Annual number of respondents | Annual number of responses per respondent | Total number of responses | Average burden & cost ($) per response | Total annual burden & total annual cost ($) | Cost per respondent ($)
| (1) | (2) | (1) * (2) = (3) | (4) ⁴ | (3) * (4) = (5) | (5) ÷ (1)
Capacity Reports under 284.13(b) & 284.13(d)(1) | 168 | 6 | 1,008 | 145 hrs.; $14,790 | 146,160 hrs.; $14,908,320 | 88,740
Peak Day Annual Capacity Report under 284.13(d)(2) | 168 | 1 | 168 | 10 hrs.; $1,020 | 1,680 hrs.; $171,360 | 1,020
Index of Customers under 284.13(c) ⁵ | 168 | 4 | 672 | 3 hrs.; $306 | 2,016 hrs.; $205,632 | 1,224
Total |  | 1,848 |  |  | 149,856 hrs.; $15,285,312 |

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ The Commission staff estimates that the industry's hourly cost for wages plus benefits is similar to the Commission's $102.00 FY 2026 average hourly cost for wages and benefits.

⁵ The burden per response is based on burden expended on similar forms and other similar FERC reporting requirements (e.g. capacity reports).

Dated: February 6, 2026.
Debbie-Anne A. Reese,
Secretary.

[FR Doc. 2026-02757 Filed 2-10-26; 8:45 am]

BILLING CODE 6717-01-P